DEPARTMENT OF JUSTICE

Office of Justice Programs

[OJP(OJP)-1350]

Victims of Crime Act (VOCA) Victim Assistance Grant Program

AGENCY: Office for Victims of Crime, Office of Justice Programs, Justice.

ACTION: Proposed revised program guidelines and request for comments.

SUMMARY: The Office for Victims of Crime (OVC), Office of Justice Programs (OJP), United States Department of Justice (DOJ), is publishing Proposed Revised Program Guidelines to implement the Victim Assistance Grant Program as authorized by the Victims of Crime Act of 1984, as amended, 42 U.S.C. 10601, et seq., hereafter referred to as VOCA. These Proposed Revised Program Guidelines propose changes to the Final VOCA Victim Assistance Program Guidelines, published in 1997 (1997 Guidelines).

Solicitation of Comments: The public is invited to provide comments about these Proposed Revised Program Guidelines. All comments must be sent to Toni L. Thomas, Acting Director, State Compensation and Assistance Division, Office for Victims of Crime. Comments may be sent via conventional mail to 810 Seventh Street, NW., Washington, DC 20531; by Fax to (202) 305-2440; or via e-mail to: toni@ojp.usdoj.gov. Comments must be received no later than October 3, 2002.

FOR FURTHER INFORMATION CONTACT: Toni L. Thomas, Acting Director, State Compensation and Assistance Division, 810 Seventh Street, NW., Washington, DC 20531; telephone number (202) 307-5983. (This is not a toll-free number.) E-mail address: toni@ojp.usdoj.gov.

SUPPLEMENTARY INFORMATION: VOCA provides federal financial assistance to states for the purpose of compensating and assisting victims of crime, funding training and technical assistance, providing services to victims of federal crimes and providing funding and services for victims of terrorism or mass violence. These Proposed Revised Program Guidelines provide information specifically for the administration and implementation of the VOCA victim assistance grant program as authorized in section 1404 of VOCA, Public Law 98-473, as amended, codified at 42 U.S.C. 10603.

Compliance with Federal Administrative Requirements: The Office of Justice Programs, Office for Victims of Crime, in conjunction with the Office of Legal Policy, DOJ, and the Office of Information and Regulatory Affairs, and the Office for Management and Budget (OMB), has determined that these Proposed Program Guidelines do not represent a significant regulatory action for the purposes of Executive Order 12866 and, accordingly, these Proposed Revised Program Guidelines were not reviewed by OMB.

In addition, these Proposed Revised Program Guidelines will not have a significant economic impact on a substantial number of small entities; therefore, an analysis of the impact of these rules on such entities is not required by the Regulatory Flexibility Act, codified at 5 U.S.C. 601, et seq.

The program reporting requirements described in these Proposed Revised Program Guidelines have been approved by OMB as required under the Paperwork Reduction Act, 44 U.S.C. 3504(h). (OMB Approval Number 1121-0014).

Discussion of Proposed Changes to the Victims of Crime Act Victim Assistance Final Program Guidelines (1997)

Background. Changes contained in these Proposed Revised Program Guidelines are based on experience gained, legal opinions rendered, and developments in the criminal justice and victims services fields since the 1997 Guidelines were published. These changes are in accordance with the Victims of Crime Act (VOCA), as amended.

Following is a summary of legislative changes, formatting changes, identification of information incorporated by reference, and substantive grant program and policy modifications.

A. Legislative Changes

1. Child Abuse Prevention and Treatment Enforcement Act. This Act amended VOCA to allow for an increase in funds set aside for child abuse victims from $10 million up to $20 million. This occurs in any fiscal year in which Crime Victim Fund deposits are greater than the amount deposited in Fiscal Year 1998. An amount equal to 50 percent of the increase plus the base amount of $10 million is available for this purpose. This applies regardless of whether there is a cap on the amount of money made available from the Fund for VOCA purposes.

2. Consolidated Appropriations Acts of Fiscal Year 1997, 2000, and 2001. VOCA and the underlying distribution formula were amended to provide funds for victim assistance personnel in the Federal Criminal Justice System. Currently these funds are earmarked for United States Attorneys Offices and the Federal Bureau of Investigation. In addition, these funds support the maintenance of the Federal Victim Notification System. These earmarks come under congressionally mandated caps on the amount of money available for expenditure under the Crime Victim Fund. (See section II.A.2.)

3. Victims of Trafficking and Violence Protection Act of 2000. This Act:

a. Provided aid for victims of terrorism and expanded OVC's authority to respond to incidents of terrorism outside the United States and of terrorism and mass violence occurring within the United States;

b. Authorized the OVC Director to deposit deobligated dollars from other funded program areas into the Antiterrorism Emergency Reserve;

c. Expanded the list of eligible applicants for the Antiterorrism Emergency Reserve dollars for incidents of terrorism outside the U.S. to include not only states and United States Attorneys' Offices but also victim service organizations, and public agencies (including Federal, State, or local governments), and non-governmental organizations that provide assistance to victims of crime for provision of emergency relief including crisis response efforts, assistance, training and technical assistance and ongoing assistance including during any investigation and prosecution (42 U.S.C. 10603b(a));

d. Expanded the range of support provided to victims of terrorism and mass violence beyond emergency relief to include crisis response efforts, assistance, training and technical assistance and ongoing assistance, including during any investigation or prosecution.

e. Authorized use of the Antiterrorism Emergency Reserve to establish an International Terrorism Victim Compensation Program; and

f. Established policy on international trafficking in persons and provided access to services and special immigration status for victims of severe forms of trafficking.

OVC has published separate guidelines titled Antiterrorism Emergency Assistance Program for Terrorism and Mass Violence Crimes to provide information on accessing the Antiterrorism Emergency Reserve. OVC is also establishing separate Guidelines for the International Terrorism Victim Compensation Program.

4. The Uniting and Strengthening America by Providing Appropriate Tools Required To Intercept and Obstruct Terrorism Act of 2001 (from here on known as the USA Patriot Act of 2001). This Act:

a. Authorizes receipt of gifts, bequests, or other donations to the Crime Victim Fund from private entities or individuals;

b. Redistributes the percentage amount available for programs; i.e., crime victim compensation and victim assistance are reduced from 48.5 percent to 47.5 percent for each program and OVC discretionary program increase from 3 percent to 5 percent;

c. Authorizes the OVC Director to set aside up to $50 million from the amounts transferred to the Fund in response to airline hijackings and terrorist acts of September 11, 2001, as an Antiterrorism Emergency Reserve and allows the Director to replenish any amounts expended from the reserve in a subsequent year by setting aside up to 5 percent of amounts remaining in the fund after distributing amounts authorized for The Children's Justice Act, the Federal criminal justice system, and OVC formula and discretionary grant programs;

d. Restricts use of the Antiterrorism Emergency Reserve to supplemental grants to address terrorism or mass violence within and outside the United States and to fund the International Terrorism Victim Compensation Program;

e. Increases in Fiscal Year 2003 the percentage reimbursement to state compensation programs from 40 percent to 60 percent of payments made from state funding sources in Fiscal Year 2000;

f. Clarifies that the United States Virgin Islands is an eligible recipient of VOCA compensation and assistance formula grants;

g. Establishes that Federal Government agencies performing local law enforcement functions in the District of Columbia, the Commonwealth of Puerto Rico, and the United States Virgin Islands are eligible to receive VOCA victim assistance funding and to receive OVC discretionary funding;

h. Authorizes the OVC Director to use discretionary funds for program evaluation, compliance efforts, fellowships and clinical internships;

i. Expands the list of eligible applicants for funding in response to terrorism or mass violence within the United States to include not only states and the United States Attorneys Offices but also victim service organizations, public agencies (federal, state, local) and non-governmental organizations that provide assistance to crime victims; and amends the definition of terrorism to include mass destruction.

B. Formatting Changes

Technical revisions to these Proposed Revised Program Guidelines do not affect policy or implementation of VOCA victim assistance programs. These revisions reorganize information for ease of reference and use. For example, the 1997 Guidelines included definitions in relevant places in the body of the document. These Proposed Revised Program Guidelines centralize definitions at the beginning of the document to eliminate scanning the full set of Guidelines to find a particular definition.

C. Incorporation by Reference

The 1997 Guidelines included certain financial, civil rights, application, and award policies that affect all OJP grants. As these policies changed, the Guidelines became outdated. To assure that state grantees and subgrantees have current information, these Proposed Revised Program Guidelines incorporate by reference the following:

1. OJP Financial Guide, effective edition. The 1997 Guidelines included financial requirements that come under the responsibility of the OJP Office of the Comptroller (OC). These Proposed Program Guidelines require states and subgrantees to comply with the OJP Financial Guide, effective edition, and do not duplicate the contents of that guide. (section II.) The OJP Financial Guide is available on the OJP home page at http://www.ojp.usdoj.gov/FinGuide/.

2. Non Discrimination. The 1997 Guidelines included nondiscrimination requirements that come under the responsibility of the OJP Office of Civil Rights (OCR) which reviews and approves compliance during the grant award process. Only the VOCA statutory requirements are found in these Proposed Revised Program Guidelines. (See section IV.B.7.) These Proposed Revised Program Guidelines require compliance with other civil rights mandates but do not duplicate the materials published by the OCR.

3. Application Requirements and Other Federal Requirements. The application package for VOCA victim assistance grants contain the requisite forms, assurances, and certifications that the states must agree to in applying for and accepting VOCA funds. These Proposed Revised Program Guidelines require completion and compliance with the contents of the application package, but do not duplicate discussion of those requirements. (See section VI.)

D. Proposed Substantive Changes and Clarifications to the 1997 Guidelines

1. Strategic Planning. The Proposed Revised Program Guidelines encourage state strategic planning for the delivery of crime victim services. This planning would include conducting needs assessments, taking into consideration the multiple funding sources for services, developing a comprehensive victim assistance response to crime victims, and establishing funding priorities. In this planning process, state grantees are encouraged to plan for development and expansion of services to victim populations not previously served, including victims of cybercrime and economic crime; victims with special needs such as elders, persons with disabilities, and victims with limited English proficiency; victims living in areas with high rates of crime such as certain urban, rural, low-income neighborhoods, and Indian Country; and other categories of victims identified as underserved by the state grantee. (See section II.D.1.and 2.)

2. Mass Violence and Terrorism. These Proposed Revised Program Guidelines encourage state VOCA organizations to become involved with criminal crisis response planning activities by working with the state's designated emergency preparedness organizations, with local governments, with the crime victim compensation program, with victim assistance, and other relief agencies and organizations. This involvement is expected to result in appropriate, quality, and timely victim services responses in the aftermath of terrorism or mass violence crimes. (section III.)

3. Training Funds. The 1997 Guidelines allowed state grantees to retain up to 1 percent of their awards with a 20% match for statewide or regional training. The Proposed Revised Program Guidelines would allow up to 5 percent for this purpose with no match requirement. (section VII.)

4. New Programs. VOCA requires those programs without a demonstrated history of providing victim services (when applying for VOCA funds) to assure that they have substantial financial support from sources other than the Crime Victims Fund. To meet this mandate, the 1997 Guidelines required new programs to demonstrate that 25-50 percent of their financial support came from non-federal sources. These Proposed Revised Program Guidelines require that other sources of funding be only non-VOCA, which is consistent with the VOCA statute. This will allow new programs with other federal funding, but with limited state, local, or private funding, to apply for VOCA victim assistance grant funds. This does not allow these programs to use VOCA victim assistance funds to supplant other federal funding and does not allow for use of federal funding as match except as described in the OJP Financial Guide, effective edition. (See section VIII.A.3.) In addition, the Proposed Revised Program Guidelines specify that the non-VOCA share must be at least 35% in order to assure substantial financial support from other sources and encourage the start up of new programs to serve crime victims. (See section VIII.A.3.)

5. Fees for Service and Program Income. These Proposed Revised Program Guidelines discourage but do not prohibit subgrantee programs from charging fees and thus generating program income. In instances where the VOCA grantee determines that more victims would be served or services enhanced when VOCA and other victim services funding are limited, these Proposed Revised Program Guidelines describe state grantee responsibility when considering whether to approve a subgrantee's request to charge fees for services. This section prohibits the charging of fees for basic victim services, and requires that VOCA grantees, when making a decision, give priority to considerations of victim access to services over a subgrantee's desire to expand services. (See section VIII.A.12.)

6. Victim Rights Compliance. States have passed constitutional amendments and statutes guaranteeing the rights of crime victims to participate in the criminal justice process. Victims are allowed to make statements at sentencing and parole hearings; to receive notification of court proceedings and actions concerning case dispositions; to apply for crime victims compensation; and to receive restitution. However, in practice, many victims are not afforded these rights. Several states have developed programs that provide recourse to crime victims who believe that their rights have been violated. These Proposed Revised Program Guidelines allow VOCA funds to support victim rights compliance activities and services. (section VIII.B.1.)

7. Vulnerable Adults. These Proposed Revised Program Guidelines identify “vulnerable adults” as eligible to receive services under VOCA victim assistance. In addition, the definition of “vulnerable adults” is included in the definition section. (See sections I.Q. and IX.A.1&7)

8. Emergency Expenses. The 1997 Guidelines, under “Immediate Health and Safety,” included as allowable costs emergency food, clothing, shelter, and other services that can restore a victim's sense of security. This included boarding up broken windows and replacing or repairing locks. These Proposed Revised Program Guidelines add as allowable costs the replacement of prescription medicines and eyeglasses within 48 hours of the crime when other resources are unavailable for these purposes. (See section IX.A.1.)

Also added as allowable costs are short-term in-home services needed to assist children and vulnerable adults to remain in their own homes when the offender who is the care giver is removed. These services may include meal preparation, child care, respite care, and 24-hour supervision. The 1997 Guidelines allowed for emergency nursing home care; these Proposed Revised Program Guidelines add adult foster care and group home care as less restrictive alternatives to nursing home care.

Finally, the 1997 Guidelines provided for emergency legal assistance for victims of family violence. These Proposed Revised Program Guidelines extend emergency legal assistance to victims of any crime, as long as the service is directly related to the crime. This will allow coverage for obtaining protective or restraining orders by victims of stalking, sexual assault, and other crimes. In addition, legal assistance that helps victims assert their rights in a criminal case, including pro bono legal clinics for crime victims are allowable. (See section IX.A.1.)

9. Personal Advocacy and Case Management. In addition to personal advocacy, these Proposed Revised Program Guidelines add case management as an allowable activity. While personal advocacy has in the past included case management, the incorporation of specific language defining case management acknowledges that in most instances no single agency or organization can meet all the needs of crime victims and that it may be necessary to assist victims in navigating not only the criminal justice system, but also social services, health and mental health care, and other systems. (See section IX.A.2.)

10. Mental Health Counseling, Care and Peer Support. The 1997 Guidelines under “Mental Health Assistance” appeared to combine professional treatment services with peer support groups. These Proposed Revised Program Guidelines clarify distinctions between professional mental health treatment and peer support to allow for different qualifications and approaches of providers. (See section IX.A.3&4.)

11. Criminal Justice System Participation. These Proposed Revised Program Guidelines expand allowable expenses for a victim who is not a witness to attend court proceedings by including meals and lodging, interpreters for victims who are deaf or hard of hearing and for victims with limited English language proficiency, and respite and child care to enable a victim who is a care giver to participate in the criminal justice process. This does not allow VOCA funds to cover these costs when a victim is a witness in a case, since the criminal justice system is responsible for costs associated with witnesses. (See section IX.A.5.)

12. Forensic Interviews. In general, the 1997 Guidelines did not allow for VOCA victim assistance coverage of forensic interviews of crime victims, since the purpose of these interviews was viewed as an investigative function of law enforcement and prosecution. Since the release of the 1997 Guidelines, the victim services field has gained experience in working with trained interviewers who can elicit information for use not only for criminal justice evidence collection but also for victim services purposes. As a result, OVC proposes in these Proposed Revised Program Guidelines to allow for funding for trained forensic interviewers under certain circumstances. (See section IX.A.7.)

OVC is particularly interested in hearing from the field about the pros and cons of including forensic interviews as an allowable cost as well as parameters under which VOCA funds should and should not be used.

13. Victim-Offender Meetings. These Proposed Revised Program Guidelines clarify that VOCA victim assistance may only fund interaction between a victim and the perpetrator of the crime in which the victim was harmed and the meeting must be instigated by the victim. Further, VOCA funds can only be used to cover costs for that victim. This means that costs incurred for the offender must be borne by the criminal justice or other systems. VOCA victim assistance funds cannot be used for offender based restorative justice programs. (See section IX.A.8.)

14. Multisystem, Interagency, Multidisciplinary Approach to Serving Crime Victims. In the 1997 Guidelines, subgrantees were required to coordinate and collaborate with other public and community-based organizations in serving crime victims, but VOCA victim assistance funds could not be used for these purposes. Because there is recognition in the field that effective provision of victim services in most instances requires a multisystem, interagency, and multidisciplinary approach, these Proposed Revised Program Guidelines consider as allowable costs participation on child and vulnerable adult multidisciplinary investigation and treatment teams, case planning and management meetings, and other such interactions when multiple agencies serve a crime victim. In addition, activities that further the development and maintenance of a seamless system of services for crime victims may be supported. This would include participation on work groups, task forces, committees, and other such bodies to establish protocols, working agreements, and other mechanisms for coordination and collaboration and oversee system delivery. This provision does not include as allowable activities lobbying or administrative advocacy. (See section IX.B.2.)

Because this provision is a major departure from previous Guidelines, OVC is particularly interested in receiving comments on this proposal.

In addition, OVC is interested in learning if there are subgrantee executive director or other administrative expenses that could be made allowable; e.g., expenses that assure oversight of the VOCA project, quality of services, coordination with other organizations, budgeting for the project. This acknowledges, among other factors, that the victim services field is moving toward professionalization, projects are more complex, presence in the community is critical, and budgets are larger, resulting in the need for experienced and qualified managers for subgrantee agencies.

15. Training for Subgrantees, Others Who Serve Crime Victims, and Administrators and Managers. In the 1997 Guidelines, funds awarded to subgrantees could be used for training subgrantee staff, whether VOCA or non-VOCA funded. Because intervention with crime victims in most instances requires a multisystem, interagency, and multidisciplinary approach, these Proposed Revised Program Guidelines authorize the use of VOCA funds for joint training of VOCA-funded staff with others such as criminal justice officials and mental health providers so long as the training promotes a cross-system response to crime victims. Training-related travel is also allowed under these conditions.

In addition, at the state grantee's discretion, subgrantee training on administration and management is also allowable. This acknowledges that the complexities of overseeing victim services agencies have increased and program administrators and managers must continually hone knowledge, skills, and abilities to ensure that comprehensive, quality services are provided to crime victims. (See sections IX.B.2.and 4.)

Because allowing VOCA direct services funds to be used to pay for training on administration and management is a significant departure from previous policy, OVC is particularly interested in receiving comments on this proposed change.

16. Compliance With the Americans with Disabilities Act and the National Historic Preservation Act. The 1997 Guidelines allow for minor building adaptations to facilitate the access to services for crime victims. These Proposed Revised Program Guidelines add information pertaining to any medically necessary building adaptations or modifications by including information on compliance with the National Historic Preservation Act, 16 U.S.C. 470 et seq. This Act applies when a grantee wishes to use VOCA funds for making minor building adaptations or modifications to historic properties. (See section IX.C.1.)

17. Purchasing Vehicles. These Proposed Revised Program Guidelines continue to allow for leasing of vehicles by subgrantees but no longer allows for purchase. This is intended to prevent misuse and abuse of VOCA funds. (See section IX.C.5.)

Because this provision is a notable departure from previous Guidelines, OVC is particularly interested in receiving comments on this proposed change.

18. Automated Systems and Technology. In the 1997 Guidelines, subgrantees requesting VOCA funds for any advanced technology were required to meet specific justification requirements. These Proposed Revised Program Guidelines consider personal computers as common office equipment which is allowable under equipment and furniture. (See section IX.C.2.) The 1997 Guidelines requirements for funding advanced technologies are now required only for larger systems automation such as statewide information and referral systems and victim services agency case tracking systems.

Also, requirements are added for automation of victim notification systems to assure that a subgrantee has the capability to connect a victim receiving notification to needed crisis intervention and referral services. Because automated victim notification systems are dependent on criminal justice information systems, the requirement is added that development and implementation of these systems must include work with the OJP single point of contact for OJP technology grants and comply with OJP requirements. (See section IX.C.6.)

19. State Onsite Monitoring of Subgrantees. State desk monitoring of subgrantees has always been an expectation of OVC. Because of the increase in federal VOCA funds now available to state grantees to fund victim assistance programs, the increase in the number of years in which these funds can be spent, the availability of administrative costs, and a major increase in the number of VOCA funded projects, in these Proposed Revised Program Guidelines OVC mandates that state grantees conduct onsite monitoring of subgrantees at a minimum of once every four years. State grantees would be required to develop a monitoring plan and maintain on file site visit reports and other documents related to subgrantee compliance with VOCA and the OJP Financial Guide, effective edition. This is an allowable expense which can be charged to the VOCA administrative allocation. (See section XI.)

Proposed Revised Guidelines for the Victims of Crime Act Victim Assistance Grant Program

These Proposed Revised Program Guidelines update the previously issued Final Program Guidelines, Victims of Crime Act Victim Assistance Grant Program (1997 Guidelines), 62 FR 19607, Apr. 22, 1997, and are in accordance with VOCA. These Proposed Revised Program Guidelines are all inclusive and upon issuance of Final Guidelines will supersede any prior VOCA Victim Assistance Guidelines issued by OVC. These Proposed Revised Program Guidelines seek to broaden the use of VOCA funding to cover additional subgrantee expenses, to support new services, and to reach victims of new categories of crime.

These Proposed Revised Program Guidelines are outlined as follows:

I. Definitions

II. Funding Allocations

III. Mass Violence and Terrorism

IV. State Grantee Eligibility Requirements

V. VOCA Victim Assistance State Grantee Application Process

VI. Administrative Cost Provision for State Grantees

VII. State Grantee Training Funds

VIII. Subgrantee Program Requirements

IX. Subgrantee Allowable Costs

X. Program Reporting Requirements

XI. Monitoring

XII. Suspension and Termination of Funding

I. Definitions

The following definitions are provided for purposes of these Proposed Revised Program Guidelines.

A. Case management. Case management includes working with a victim to examine the impact of the crime, identify needs, develop a plan of services and resources required to respond to the victim's needs, and assist the victim in implementing the plan. The case manager, located in a victim services organization, may be the coordinator for the work of all other agencies, assuring that services and benefits are provided and rights are accorded.

B. Child Sexual Exploitation. The sexual victimization of a minor under the age of 18 involving any of the following: child pornography, child prostitution, or online enticement of sexual acts. Child exploitation does not necessarily require commercial or monetary gain for the perpetrator.

C. Cybercrime. For purposes of these Guidelines, cybercrime is a crime in which computers and other technology are used to facilitate traditional criminal activity (e.g., stalking, child sexual exploitation, or fraud). Cybercrime does not include crimes where computers or other technologies are the targets of attack (e.g., computer hacking).

D. Domestic Violence. This term includes spouse abuse and intimate partner violence.

E. Economic Crime. Economic crime includes fraud, forgery, larceny, embezzlement, and identity theft which is perpetrated against individuals. It does not include crimes against a business, organization, or government.

F. Federal Crime. A federal crime is any crime that is a violation of the United States Criminal Code or violation of the Uniform Code of Military Justice. In general, federal crimes are investigated by federal law enforcement agencies, including the Federal Bureau of Investigation (FBI), Drug Enforcement Administration (DEA), Bureau of Alcohol, Tobacco and Firearms (BATF), U.S. Postal Service (USPS), Department of Interior (DOI), U.S. Secret Service (USSS), U.S. Customs Service (USCS), and Immigration and Naturalization Service (INS). Federal crimes are prosecuted in Federal District Courts by U.S. Attorneys and the U.S. Department of Justice Criminal Division. Examples of Federal crimes include, but are not limited to:

1. Crimes against federal officials.

2. Crimes that take place on federal property, including national parks and military bases, certain maritime and territorial jurisdictions, and buildings owned or leased by the Federal Government.

3. Bank robberies where the bank is insured or otherwise secured by the Federal Government.

4. Crimes affecting interstate activities, such as kidnaping, interstate domestic violence, and fraud via the U.S. mail, telephone, or wire.

5. Crimes occurring in Indian Country or on reservations where the Federal Government has criminal jurisdiction.

6. Trafficking in persons.

G. Indian Tribes and Tribal Organizations. Any Indian tribe, band, nation, or other organized group or community, including any Alaska Native village or regional or village corporation as defined in or established pursuant to the Alaska Native Claims Settlement Act (43 U.S.C.A. Sec. 1601, et. seq.), which is recognized as eligible for the special programs and services provided by the United States to Indians because of their status as Indians.

H. In-kind Match. In-kind match may include donations of expendable equipment, office supplies, training materials, work space, or the monetary value of time contributed by professionals and technical personnel and other skilled and unskilled labor, if the services they provide are an integral and necessary part of a funded project.

I. Mass Violence Occurring Within or Outside the United States. The term mass violence is not defined in VOCA or in any statute amending VOCA nor is it defined in the U.S. Criminal Code. Thus, OVC has developed a working definition of this term. The term mass violence means an intentional violent criminal act, for which a formal investigation has been opened by the Federal Bureau of Investigation or other law enforcement agency, that results in physical, emotional or psychological injury to a sufficiently large number of people as to significantly increase the burden of victim assistance for the responding jurisdiction, as determined by the OVC Director. If there is a discrepancy between the definition provided in these Proposed Program Guidelines and the Guidelines for the Antiterrorism and Emergency Assistance Program for Terrorism and Mass Violence Crimes, the definition in the latter Guidelines take precedence.

J. Mental Health. Mental health counseling and care means the assessment, diagnosis, and treatment of an individual's mental and emotional functioning as affected by a crime.

K. Nonviolent Crime. Nonviolent crime includes but is not limited to property and economic crime. It may include arson, burglary and other such crimes when a victim or victims have not experienced injury or death.

L. Peer Support. Activities that provide opportunities for victims to meet others with similar crime victim experiences that provide self-help, information, and peer and social support in order to assist victims in receiving understanding and comfort and in adapting their lives after a crime.

M. State. The term state includes the 50 states, the District of Columbia, American Samoa, the United States Virgin Islands, Guam, the Commonwealth of Puerto Rico, the Northern Mariana Islands, and any other possession or territory of the United States of America.

N. Terrorism Occurring Outside the United States (also known as international terrorism). The term “international terrorism” is being used to define terrorism outside the United States. “International terrorism means activities that * * * (A) Involve violent acts or acts dangerous to human life that are a violation of the criminal laws of the United States or of any State, or that would be a criminal violation if committed within the jurisdiction of the United States or of any State; (B) appear to be intended to (i) intimidate or coerce a civilian population; (ii) influence the policy of a government by intimidation or coercion; or (iii) affect the conduct of a government by mass destruction, assassination or kidnaping; and (C) occur primarily outside the territorial jurisdiction of the United States, or transcend national boundaries in terms of the means by which they are accomplished, the persons they appear intended to intimidate or coerce, or the locale in which their perpetrators operate or seek asylum (18 U.S.C. 2331).

O. Terrorism Occurring Within the United States. For purposes of these guidelines, “terrorism occurring within the United States” is defined by the term “domestic terrorism” found in 18 U.S.C. 2331. An act of domestic terrorism means activities that (A) involve acts dangerous to human life that are a violation of the criminal laws of the United States or of any State, (B) appear to be intended (i) to intimidate or coerce a civilian population; (ii) to influence the policy of a government by intimidation or coercion; or (iii) to affect the conduct of a government by mass destruction, assassination, or kidnaping (18 U.S.C. Section 2331).

P. Victim Services. Victim services are those efforts that (1) respond to the emotional and physical needs of crime victims, (2) assist victims of crime to stabilize their lives after a victimization, (3) assist victims in understanding and participating in the criminal justice system, (4) provide victims of crime with a measure of safety, and (5) provide training intended to improve the quality of services rendered to crime victims. (See Sections II. and III.)

Q. Vulnerable Adults. Vulnerable adults are adults who, because of a disability, are unable to report a crime or take action on their own behalf when experiencing an act of violence, criminal neglect, or economic exploitation. These persons may be frail elders, adults experiencing severe episodes of mental illness, adults with profound mental retardation, and adults with incapacitating physical disabilities. These adults may require the intervention of adult protective services including the services of a multidisciplinary investigation and treatment team to assist in planning for and delivering victim services. These adults may have conservators or guardians. To clarify, not all elders and persons with disabilities are vulnerable adults.

II. Funding Allocations

In 1984, VOCA established the Crime Victims Fund (Fund) in the U.S. Treasury to receive deposits from fines, penalty assessments and bond forfeitures from criminals convicted of federal crime. In addition, the Fund may accept gifts, bequests, or donations from private entities and individuals. This Fund is administered by the Office for Victims of Crime (OVC) to carry out the mandates of VOCA.

A. Fund Distribution. Distributions are allocated as follows:

1. Child Abuse Prevention and Treatment Grants. VOCA allows up to $20 million of the first amounts deposited in the Fund to be allocated for Child Abuse Prevention and Treatment Grants. This occurs in any fiscal year in which Crime Victim Fund deposits are greater than the amount deposited in Fiscal Year 1998. An amount equal to 50 percent of the increase plus the base amount of $10 million is available for this purpose. This applies regardless of whether there is a cap on the amount of money that can be distributed from the Fund. Eighty-five percent of these funds are forwarded to the Department of Health and Human Services. The remaining 15 percent is retained by OVC to assist Indian tribes in developing, establishing, and operating child abuse programs.

2. Federal Criminal Justice System. Unspecified amounts are earmarked by Congress annually to be made available for improving services for the benefit of crime victims in the Federal criminal justice system. These amounts pay for personnel and the Federal Victim Notification System.

3. Remaining Fund Deposits. The remaining Fund deposits are distributed as follows:

a. Victim Compensation Grants. Forty-seven and one half percent (47.5%) is available to eligible state programs for crime victim compensation.

b. Victim Assistance Grants. Forty-seven and one half percent (47.5%) is available to states for victim assistance grants. Amounts not needed to meet the funding requirements under the victims compensation grant programs are added to this amount.

c. Discretionary Grants. Five (5) percent is retained by OVC for demonstration projects, program evaluation, compliance efforts, training and technical assistance, fellowships, internships, and for the financial support of services to victims of federal crime.

4. Antiterrorism Emergency Reserve. In addition to monies distributed above, the OVC Director may set aside up to $50 million from amounts transferred to the Fund in response to the airplane hijackings and terrorist acts that occurred on September 11, 2001. The Director may replenish any amounts expended from the Reserve in subsequent fiscal years by setting aside up to 5 percent of the amounts remaining in the Fund in any fiscal year after distributing amounts for the Children's Justice Act, the VOCA crime victim compensation and assistance formula grants, and for OVC discretionary funds. These funds are to be used to support compensation and assistance services for victims of terrorism or mass violence crimes and fund an international victim compensation program.

B. Grant Period. VOCA grant funds are available for expenditure throughout the fiscal year (FY) of the award plus the next three fiscal years. The federal fiscal year (FFY) begins on October 1 and ends on September 30.

C. VOCA Victim Assistance Grant Formula. The Director of OVC is required to make an annual victim assistance grant to states from the Fund. Each state grantee receives a base amount of $500,000, except for the territories of Northern Mariana Islands, Guam, and American Samoa, which receive a base amount of $200,000. The remaining allocations from the Fund and any amounts rolled over from the crime victim compensation allocation are distributed to each state, based upon the state's population in relation to all other states, as determined by current U.S. census data.

D. Allocation of Funds Within States. The governor of each state must designate the state agency that will administer the VOCA victim assistance grant program. The designated agency must establish and abide by policies and procedures which meet the minimum requirements of VOCA, the Final Program Guidelines, and the OJP Financial Guide, effective edition. The state grantee has the sole discretion for determining which public and private nonprofit organizations will receive funds, in what amounts, and during what time period within the parameters of VOCA.

1. Strategic Planning. State grantees are encouraged to develop a strategic plan for the delivery of victim services. This plan could encompass analysis of crime statistics, crime victimization surveys that include victims who do not report crime to law enforcement as well as those who do, analysis of demographic characteristics of crime victims who do and do not access services, and identification of services and other resources available to crime victims. OVC encourages administrators to use formal assessment tools such as geographic information systems (GIS) to support data driven planning. The resulting plan would provide information on the sufficiency of coverage of services by community-based and criminal justice-based victim services programs and provide direction on the maintenance of current services and development of needed services. OVC recommends that a financial plan be an integral component of the strategic plan. This would include identification of multiple state and federal funding resources available for crime victim services and applicable requirements, establishment of program and service priorities, tying appropriate funding sources to program and service priorities, development of a multiyear funding plan, tracking expenditure of funds to allow for timely redistribution of funds not being used by subgrantees in order to prevent deobligations and maximize use of available funding, and identification of additional funding needed for a comprehensive victim assistance response.

2. Underserved Crime Victims. State grantees are encouraged to plan for and expand services to victims of crime (a) who are not traditionally served through VOCA victim assistance programs such as cybercrime and economic crime, (b) with special needs such as elders, persons with disabilities, and victims with limited English proficiency, (c) living in areas with high rates of crime such as certain urban, rural, low-income neighborhoods, and Indian Country, and (d) whose needs are not being met, as identified by the state grantee.

3. Conduit Organizations. States may choose to use an organization as a conduit to aid in the selection of qualified subrecipients or to reduce the State's administrative burden in implementing the grant program. The use of a conduit organization does not relieve the State from ultimate programmatic and financial responsibilities.

III. Mass Violence and Terrorism

A. Criminal Crisis Response. State grantees are encouraged to participate in state activities that prepare for and respond to mass violence and terrorist acts. This includes working with the designated emergency preparedness organizations in state government and encouraging subgrantees to work with local emergency preparedness organizations in counties and municipalities. State grantees may use administrative and training funds for these purposes.

B. Antiterrorism Emergency Reserve. Upon request, the Director of OVC may supplement crime victim assistance programs for costs associated with responding to mass violence or terrorism to provide emergency relief, including crisis response efforts. See OVC Guidelines for the Antiterrorism and Emergency Assistance Program for Terrorism and Mass Violence Crimes for more information.

IV. State Grantee Eligibility Requirements

A. Grantee. The VOCA grantee must be a state organization designated by the governor to administer this program.

B. Grantee Program Requirements. State grantees must meet the following requirements when administering VOCA victim assistance grant funds:

1. Compliance With VOCA. VOCA state grantees and subgrantees must comply with the applicable provisions of VOCA and the Final Program Guidelines.

2. Eligible Subgrantees. State grantees may only subaward VOCA funds to eligible organizations and these funds must be used, unless otherwise specified for training and administrative costs, only for direct services to victims of crime.

3. Nonsupplantation. VOCA crime victim assistance grant funds must be used to enhance or expand services and shall not be used to supplant state or local public funds that would otherwise be available for crime victim services. This nonsupplantation clause applies to state and local public agencies, not private nonprofit organizations.

4. Priority Categories of Crime Victims. State grantees must give funding priority to victims of sexual assault, domestic abuse, and child abuse. To meet this requirement, states must allocate a minimum of 10 percent of each Federal Fiscal Year's (FFY) grant to each of these categories of crime victims (30 percent total). This grantee requirement does not apply to VOCA subgrantees.

Each state grantee must meet this requirement, unless it can demonstrate to OVC that (a) a priority category is currently receiving significant amounts of financial assistance from the state or other sources, (b) a smaller amount of financial assistance, or no assistance, is needed from the VOCA victim assistance grant program, or (c) crime rates for a priority category do not justify the required allocation.

5. Previously Underserved Category. State grantees must award an additional 10 percent of each VOCA grant to underserved victims of violent crime (other than priority category victims). To meet the underserved requirement, state grantees must identify crime victims by the types of crime they have experienced. These underserved victims may include, but are not limited to, survivors of homicide victims, or victims of physical assault, robbery, hate and bias crimes, bank robbery, and kidnaping.

The results of allocation of funds under number 4 and number 5 above are that 40 percent of each year's award must be allocated to four specified groups of violent crime victims. The remaining 60 percent may be allocated to categories of victims of violent or nonviolent crimes.

6. Financial Recordkeeping and Program Monitoring. Appropriate accounting, auditing, and on/offsite monitoring procedures will be used by grantees and subgrantees so that records are maintained to ensure delivery of services in accordance with VOCA and the subgrant award, to maintain fiscal control, to achieve proper management, and to ensure efficient disbursement of the VOCA victim assistance funds, in accordance with the OJP Financial Guide, effective edition.

7. Non Discrimination. No person shall on the grounds of race, color, religion, national origin, disability, or sex, be excluded from participation in, denied the benefits of, subjected to discrimination under, or denied employment in connection with any undertaking funded in whole or in part with sums made available under VOCA. States must comply with these VOCA nondiscrimination requirements, the Federal civil rights statutes and regulations cited in the Assurances that accompany the grant award document, and all other applicable civil rights requirements. States with decentralized operations must assure that all operations comply with these requirements.

8. Other Information Requested by the OVC Director. The state must provide such other information and assurances as the OVC Director reasonably requires.

C. Additional Provisions. 1. Coordination with Other Offices. State grantees are encouraged to coordinate their activities with VOCA compensation programs, U.S. Attorney's Offices, Federal Bureau of Investigation field offices, and other programs providing funding or services for crime victims such as state mental health agencies and housing programs.

2. Unfunded State Mandates. Many state legislatures have passed laws establishing important new rights for crime victims. OVC wishes to clarify that VOCA funds may be used for the purpose of implementing these laws, if no other state or local funds are available. VOCA funds may not be used to supplant state or local funds appropriated to implement state mandates.

V. VOCA Victim Assistance State Grantee Application Process

Each year, OVC provides to each designated state agency an application package which contains the necessary forms and detailed information required to apply for VOCA victim assistance grant funds. The amount for which each state may apply is included in the package.

To apply for VOCA victim assistance grant funds, states must complete and submit the Standard Form 424, Application for Federal Assistance, including attachments, and certify compliance with VOCA and OJP requirements. Required certifications will include, but may not be limited to, lobbying, drug free workplace, and non-debarment from work with the Federal Government. Completed applications must be received by OVC on or before the stated deadline, as determined by OVC. To receive the award, state grantees will be required to assure compliance with other federal requirements such as civil rights laws and the National Historic Preservation Act.

VI. Administrative Cost Provision for State Grantees

A. Administrative Cost Allowance. VOCA allows states to use up to 5 percent of victim assistance grant funds for administering the grant program. Any portion of the allowable 5 percent that is not used for administrative purposes must be used exclusively for direct services to crime victims. Administrative funds must be expended during the grant award period. State grantees are not required to match the portion of the grant that is used for administrative purposes. This administrative cost option is available to the state grantee but does not apply to VOCA subgrantees.

The intent of this administrative cost provision is to sustain and advance program administration in all operational areas by supporting activities that will expand, enhance, or improve the state's previous level of effort in administering the VOCA victim assistance grant program and to support activities and costs that impact the delivery and quality of services to crime victims throughout the state. If a state elects to use up to 5 percent of the VOCA assistance grant for administrative purposes, only those costs directly associated with administering the program, enhancing overall program operations, and ensuring compliance with federal requirements can be paid with administrative grant funds. The state administrative agency may charge a federally approved indirect cost rate to this grant, but this cost is capped by the limits of these 5 percent administrative funds.

State grantees must certify that VOCA administrative funds will not be used to supplant state or local funds, but instead will be used to increase the amount of funds available for administering the program. For the purpose of establishing a baseline level of effort, states must maintain documentation of state funding for administration of the program prior to the state's use of VOCA administrative grant funds. State grantees will not be in violation of the nonsupplantation clause if there is a decrease in the state's previous financial commitment toward the administration of the VOCA grant programs in the following situations: (1) Serious loss of state revenue resulting in across-the-board budget restrictions, or (2) decrease in the number of state-supported staff positions used to meet the state's maintenance of effort in administering the VOCA grant programs. States using administrative funds must notify OVC if there is a decrease in the amount of the state's prior year's financial commitment to the cost of administering the VOCA program.

Only staff activities directly related to victim assistance grant program functions can be funded with VOCA administrative funds. Similarly, any equipment purchases or other expenditures charged to the VOCA administrative funds can be charged only in proportion to the percentage of time they are used for the VOCA victim assistance grant program.

B. Allowable Costs. Below are examples of state grantee activities that directly relate to managing the VOCA grant and impact the delivery and quality of services to crime victims. These activities can be supported only with administrative funds:

1. Salaries and Benefits. Salaries and benefits for grantee staff and consultants to administer and manage the financial and programmatic aspects of VOCA. Administrative grant funds can only support that portion of the staff's time that is devoted to the VOCA assistance program. If staff performs other functions, the proportion of time worked on the VOCA assistance program must be documented at reasonable intervals using a reasonable method such as time and attendance records. The documentation must provide a clear audit trail for the expenditure of grant funds.

2. Training Attendance. Attendance of grantee staff at technical assistance meetings, conferences, and training that address issues relevant to state administration of victim assistance programs. This includes travel, registration fees, and other such expenses. These funds may also be used to train subgrantee managers, board members, and administrative staff on strategic planning, program development, financial management, evaluation, and other management and administrative skills.

3. Monitoring Compliance. Monitoring compliance of VOCA subgrantees with federal and state requirements.

4. Technology. Technology to include the study, design, and implementation of grants management systems, Web page construction and maintenance, victim notification systems, case tracking systems, Geographic Information Systems, and other relevant automated systems; the purchase and maintenance of equipment for the state grantee, including computers, software, FAX machines, copying machines, and TTY/TDDs; and services required to support technology.

5. Technical Assistance Provision. Technical assistance may be provided to VOCA grantees and subgrantees on the administration and management of the VOCA grant, including strategic and financial planning, program development, financial management, evaluation, public awareness and outreach, human resources' management, and board development. Technical assistance may be provided to current and potential subgrantees and others who provide or seek to provide services to crime victims. Technical assistance may also be provided to promote innovative approaches to serving crime victims.

6. Membership. Memberships in crime victims organizations and the purchase of victim-related materials such as curricula, literature, and protocols. Memberships in organizations that support the management and administration of the VOCA victim assistance grant program are also allowable.

7. Program Evaluation. Surveys or studies that inform on the impact or outcome of services received by crime victims.

8. Prorated Audit Costs. Prorated program audit costs for the victim assistance program.

9. Indirect Costs. Indirect costs at a federally approved rate that does not exceed the 5 percent administrative cost allowance when applied.

10. Strategic Planning. Development of strategic plans, both service and financial, including the conduct of surveys and needs assessments.

11. Coordination and Collaboration Efforts. Coordination and collaboration efforts made on behalf of crime victims with appropriate groups such as criminal justice, victim advocacy, human services, financial assistance (including crime victim compensation), OJP bureaus and offices, and other appropriate federal, state, and local agencies and organizations.

12. Publications. Purchasing, printing, and developing training materials, victim services directories, brochures, and other relevant publications.

13. System Improvement. State level activities that support the development and operation of coordinated, comprehensive responses to crime victims. This includes involvement on task forces and other committees examining issues affecting crime victims, protocol development for criminal crisis responses, participation in demonstration projects designed to improve responses to crime victims, and efforts to assure that victims' assistance programming is coordinated with victim compensation programs.

14. Reporting. State activities necessary to meet federal and state reporting requirements concerning the VOCA victim assistance grant program are allowable.

C. Requirement to Notify OVC of Use of Administrative Funds. Prior to charging or incurring any costs against this provision, state grantees are required to notify OVC of their decision to use administrative funds and the amount of the total grant that is to be used. State grantees may notify OVC when the decision is made to exercise this option or at the time the Application for Federal Assistance, SF424, is submitted.

A state may modify projections provided in the grant application by notifying OVC of the revised amount of the total grant that will be used as administrative funds. Failure to notify OVC of adjustments may prevent the state from meeting its obligation to reconcile its Statewide Report with its Final Financial Status Report (SF269A).

VII. State Grantee Training Funds

A. Three Provisions for Paying for Training. Under the Proposed Revised Program Guidelines, state grantees may pay for training in three ways: (1) Through the state administrative cost allowance to cover training for state grantee staff and managers and administrators of subgrantee organizations found in section VI.B.2.; (2) through a 5% allowance in a fiscal year award as described below; and (3) through training allowances for direct services and multidisciplinary staff in subgrantee awards as described under section IX.B.4.

B. Five Percent Training Allowances. 1. State grantees may retain up to 5 percent of the grant to provide statewide or regional training of victim services staff, allied professionals, criminal justice officials, public assistance officials, health and social services providers, and other allied organizations and professions about victimization issues, needs, and resources. The purpose for this training allowance is to assure that victim service providers receive needed training to provide appropriate, comprehensive, and quality services. Use of these funds is permissible for state victim assistance training academies.

2. Match. VOCA funds used for training by the state grantee requires no match.

3. Crime Victim Compensation. In order to assist subgrantees in meeting the requirement that they assist victims in applying for compensation, state grantees may choose to award a portion of their training funds to the VOCA crime victims compensation program to conduct training for VOCA subgrantees.

4. Time Period. Each training activity must occur within the grant period.

5. Nonsupplantation. VOCA grant funds cannot be used to supplant the cost of existing state administrative staff or related state training efforts.

6. Statement of Intent to OVC. State grantees that choose to use a portion or all of its 5% training allowance must submit a statement to OVC reporting the amount of the total grant that will be used to pay for training. A state grantee may modify projections by notifying OVC of the revised amount of the total grant that will be used for training. Failure to notify OVC of adjustments may prevent the state from meeting its obligation to reconcile its Statewide Report with its Final Financial Status Report (SF269A).

VIII. Subgrantee Program Requirements

A. Subgrantee Organization Eligibility Requirements. Subgrantees must use VOCA victim assistance funds only to provide direct services. Certain training and administrative costs may also be allowed by the state grantee as provided for under Sections IX.B.5. and IX.C. Each subgrantee organization must meet the following requirements:

1. Public or Nonprofit Organization. Subgrantees must be operated by a public or nonprofit organization, or a combination of such organizations, and provide services to crime victims.

2. Record of Effective Services. Subgrantees must demonstrate a record of providing effective services to crime victims. This includes having the support and approval of its services by the community, a history of providing direct services in a cost-effective manner, and financial support from sources other than VOCA.

3. New Programs. Programs that have not yet had a history of providing effective services to victims of crime must demonstrate that they have substantial financial resources in order to be considered for VOCA victim assistance funding. “Substantial financial resources” mean that, if a VOCA grant were to be awarded, at least 35% of the program's funding must come from non-VOCA sources. Support from other federal funding programs may be used to demonstrate substantial financial resources, but federal funds cannot be used as match for a VOCA subgrantee project, except as specified in the OJP Financial Guide, effective edition. If the 35% in substantial financial resources is non-federal or meets the exceptions in the OJP Financial Guide, effective edition, a portion of these funds can be used as match.

4. Project Match Requirements. New and existing VOCA victim assistance subgrantees must match 20 percent (cash or in-kind) of the total cost of each VOCA project, and the match must be derived from non-federal sources, except as provided in the OJP Financial Guide, effective edition. All funds designated as match are restricted to the same uses as the VOCA victim assistance funds and must be expended within the grant period. Any deviation from this policy must be approved by OVC and the OJP Office of the Comptroller in writing.

a. Exceptions to the 20 Percent Match. Lower match requirements must be allowed for:

(1) Indian Tribes and Tribal Organizations. The match for subgrantees that are Indian tribes or organizations located on reservations are 5 percent (cash or in-kind) of the total VOCA project. Reduced match is allowed because many tribes have meager financial resources and American Indians experience high rates of crime. This reduced match is allowed to help tribes access VOCA victim assistance funds.

(2) Territories and Possessions of the U.S. Other territories and possessions of the United States, except for the Commonwealth of Puerto Rico, are not required to match VOCA funds. (48 U.S.C. 1469a(d))

b. Sources of Match.

(1) Volunteers. The value placed on volunteer services must be consistent with the rate of compensation paid for similar work in the subgrantee's organization. If the required skills are not found in the subgrantee's organization, the rate of compensation must be consistent with the labor market. Fringe benefits may be included in the valuation.

(2) Equipment. The value placed on loaned or donated equipment may not exceed its fair rental value.

(3) Space. The value of donated space may not exceed the fair rental value of comparable space as established by an independent appraisal of comparable space and facilities in a privately owned building in the same locality.

c. Recordkeeping. A VOCA subgrantee must maintain records that clearly show the source, the amount, and the period for which the match was allocated. The basis for determining the value of personal services, materials, equipment, and space must be documented. Volunteer services must be documented by the same methods used by the subgrantee for its paid employees.

5. Volunteers. Subgrantee organizations must use volunteers unless the state grantee determines there is a compelling reason to waive this requirement. A compelling reason may include but is not limited to a statutory or contractual provision concerning liability or confidentiality of counselor/victim information and communication, which bars using volunteers for certain positions.

6. Promotion of Community Efforts to Aid Crime Victims. Within the community, subgrantees must promote coordinated public and private efforts to aid crime victims. Coordination and collaboration may include, but is not limited to, serving on federal, state, local, or Indian tribe task forces, work groups, committees, commissions or coalitions, to develop written agreements and protocols and to oversee and recommend improvements to community responses to crime victims.

7. Assistance to Victims in Applying for Compensation. Such assistance may include identifying and notifying crime victims of the availability of compensation, assisting them with application forms and procedures, obtaining necessary documentation, monitoring claim status, and intervening on behalf of the victim with the crime victims compensation program.

8. Compliance With Federal Rules Regulating Grants. Subgrantees must comply with the applicable provisions of VOCA, the Final Program Guidelines, and the requirements of the OJP Financial Guide, effective edition, which include maintaining appropriate programmatic and financial records that fully disclose the amount and disposition of VOCA funds received. This includes financial documentation for disbursements, program income, daily time and attendance records specifying time devoted to allowable VOCA victim services, maintaining case files, the portion of the project supported by other sources of revenue, job descriptions, contracts for services, and other records that facilitate an effective audit.

9. Non Discrimination. VOCA requires that no person shall on the ground of race, color, religion, national origin, disability, or sex be excluded from participation in, denied the benefits of, subjected to discrimination under, or denied employment in connection with, any undertaking funded in whole or in part with sums made available under VOCA victim assistance. In addition, subgrantees cannot discriminate against victims because they disagree with the way the State is prosecuting the criminal case.

10. Federal Crime Victims. Subgrantees must provide services to victims of federal and tribal crimes on the same basis as victims of state and local crimes.

11. Compliance with State Criteria. Subgrantees must abide by any additional eligibility or service criteria established by the state grantee, including licensing or credentialing requirements and submitting statistical and programmatic information on the use and impact of VOCA funds.

12. Fees for Service and Program Income. OVC discourages but does not prohibit the charging of fees for services by subgrantees and thus the generation of program income under the VOCA victim assistance grant program. This discouragement results from the history of VOCA which expected that services would be available to all crime victims free of charge regardless of their ability to pay or of the availability of insurance or other third-party payment resources. Crime victims suffer tremendous emotional, physical, and financial losses. It was never the intent of Congress to exacerbate the impact of the crime by asking victims to pay for services.

Fees cannot be charged for basic victim services such as crisis intervention; accompaniment to hospitals for medical examinations; safety planning; personal advocacy and case management; criminal justice system advocacy; accompaniment to court and other criminal justice meetings and events; notification of events in the victim's case; interpreters; forensic medical evidence collection examinations; and forensic interviews.

For other allowable costs in a VOCA funded project, when the VOCA grantee has limited VOCA victim assistance and other victim services funding available, and determines that if a subgrantee is allowed to charge fees, that a larger group of victims would receive services or that services could be enhanced, the VOCA grantee may consider a subgrantee's request to charge fees and so generate program income. A subgrantee must obtain the approval of the VOCA grantee before charging fees to any crime victim under a VOCA victim assistance funded project.

Before approving the charging of fees by a subgrantee from a victim's health insurance or other third party coverage, or from the victim directly, the state grantee must examine the impact on victim access to services, including whether victims would decline services if this practice would require payments or use of benefits that apply not only to the victim but also to the victim's family. The state grantee must also consider the impact on privacy if the insurance plan or other third party payment is tied to employment and result in the employer's learning of the victimization or mental health treatment needs of the victim. Victims must be notified in advance of any release of any individually identifiable information to a third party payer. Ultimately, the VOCA grantee must prioritize access to services by crime victims over the ability of subgrantees to charge fees.

In considering whether to allow a subgrantee to charge victims a fee for services, the grantee must assure the capability of the state grantee and the subgrantee to track program income in accordance with federal financial accounting requirements. (See the OJP Financial Guide, effective edition.) OVC strongly recommends that the grantee consult state accounting personnel when considering a request to charge fees, in order to assure that the tracking system would withstand an audit. The subgrantee must use generated program income only for direct services in furtherance of the goals of the VOCA funded project.

13. Client-Counselor Confidentiality. The state grantee and subgrantee must maintain confidentiality of client-counselor/service provider information, as required by state and federal law.

14. Research Confidentiality. Except as otherwise provided by federal law, any research and statistical information that is identifiable to any private person may only be used for the purpose for which it was obtained under VOCA. This information, and any copy of this information, is immune from legal process and shall not, without the consent of the private person furnishing the information, be admitted as evidence or used for any purpose in any action, suit, or other judicial, legislative, or administrative proceeding. This is particularly important for victim services agencies that plan to develop and maintain victim databases containing specific, identifiable victim information.

This provision is intended, among other things, to ensure the confidentiality of information provided by crime victims to counselors working for victim services programs receiving VOCA funds. There is nothing in VOCA or its legislative history to indicate that Congress intended to override or repeal a state's existing law governing the disclosure of information, which is supportive of VOCA's fundamental goal of helping crime victims. For example, this provision would not override or repeal a state's existing law pertaining to the mandatory reporting of suspected child abuse. See Pennhurst School and Hospital v. Halderman, et al., 451 U.S. 1 (1981).

In addition, this confidentiality provision should not be interpreted to thwart the legitimate informational needs of public agencies. For example, this provision does not prohibit a domestic violence shelter from acknowledging, in response to an inquiry by a law enforcement agency conducting a missing person investigation, that the person is safe in the shelter. Similarly, this provision does not prohibit access to a victim service project by a federal or state agency seeking to determine whether federal and state funds are being used in accordance with funding agreements.

B. Eligible Subgrantee Organizations. State grantees must award subgrants to organizations that meet VOCA eligibility requirements. The subgrantee organization must be operated by a public agency or nonprofit organization, or a combination of such agencies or organizations. All of these requirements must be met if the state grantee retains funds for its own direct services. Eligible organizations include, but are not limited to:

1. Organizations Whose Sole Mission Is To Provide Services to Crime Victims. These organizations include, but are not limited to, sexual assault, domestic violence, and child abuse programs, programs that serve survivors of homicide victims or drunk driving crashes, comprehensive victim services programs, and victim rights compliance programs.

2. Other Organizations That Serve Victims of Crime. These include, but are not limited to, guardians ad litem programs, outpatient mental health treatment programs, child guidance centers, social services agencies, public housing authorities, schools, and pro bono legal aid organizations.

3. Criminal Justice Agencies. Criminal justice organizations, including law enforcement, prosecutors' offices, courts, corrections departments, and probation and paroling authorities, are eligible to receive VOCA funds, but these funds may be used only to provide crime victim services that exceed a criminal justice agency's or official's normal duties. See sections IX.A.5 and IX.D.4. for allowable and unallowable costs.

4. Religiously Affiliated Organizations. Religiously affiliated organizations that receive VOCA funds cannot limit employment or access to services on the basis of religious affiliation and must offer and provide services to all crime victims regardless of religious affiliation.

5. State Crime Victim Compensation Agencies. Compensation programs, including both centralized and decentralized programs, may receive VOCA victim assistance funds to offer direct services to crime victims that extend beyond the essential duties of compensation staff. These services may include crisis intervention; counseling; operating toll-free numbers; and providing information, referrals, and follow-up for crime victims.

6. Hospitals and Emergency Medical Facilities. VOCA funds may be awarded to hospital and emergency medical facilities to offer crisis counseling, peer support groups, and forensic exams.

7. Indian Tribes and Tribal Organizations. According to the Bureau of Justice Statistics Report, 1999, Indians experience the highest rate of crime among any minority ethnic group of Americans. OVC encourages state grantees to fund victims services programs on reservations and in urban communities with large Indian populations.

8. Services Crossing State Lines. State grantees may award VOCA victim assistance funds to organizations that are physically located in an adjacent state when doing so is an efficient and cost-effective way to provide services to victims who reside in the awarding state. When adjacent state awards are made, the amount of the award must be proportional to the number of victims to be served by the adjacent state organization. OVC recommends those state grantees who award funds to a victim service program enter into an interstate agreement with an adjacent state to address provision of services, monitoring, auditing federal funds, overseeing compliance, and reporting. States must notify OVC at the time of subaward of each VOCA award made to an organization in another state.

9. State Grantee. Since the intention of the VOCA grant program is to support and enhance the crime victim services provided by community agencies, state grantees that meet the definition of an eligible subgrantee organization may subaward themselves no more than 10 percent of their annual VOCA grant amount.

10. Federal Criminal Justice Organizations: Any agency of the Federal Government that performs local law enforcement functions in and on behalf of the District of Columbia, the Commonwealth of Puerto Rico, the United States Virgin Islands, or any other territory or possession of the United States may qualify as an eligible crime victim assistance program.

C. Ineligible Recipients of VOCA Victim Assistance Funds. The following organizations that offer services to crime victims are not eligible to receive VOCA victim assistance funding. State grantees are encouraged to coordinate efforts with these agencies to better serve crime victims. These organizations include, but are not limited to, the following:

1. Federal Agencies. This includes U.S. Attorneys' Offices and local FBI field offices. (See VIII.B.10. for exception.)

2. Inpatient Medical or Substance Abuse Treatment Facilities. This prohibition is for inpatient treatment including for the treatment for medical, mental or drug and alcohol conditions. The only exception is for victims on hold in a mental health facility for a suicide watch that is directly related to the crime.

3. For Profit Organizations. VOCA requires that eligible subgrantees be either public or nonprofit organizations or a combination of both.

IX. Subgrantee Allowable Costs

A. Allowable Costs for Direct Services. The following is a listing of services that are allowable under victim assistance grant funds within a subgrantee organization:

1. Immediate Physical and Psychological Health and Safety. Services that respond to the immediate emotional, psychological and physical needs (excluding medical care) of crime victims are allowable. These services include, but are not limited to, crisis or suicide intervention needed as a result of the crime; accompaniment to hospitals for medical examinations; hotline counseling; safety planning; emergency food, shelter, clothing, and transportation; short-term in-home care and supervision services for children and vulnerable adults who remain in their own homes when the offender who is the caregiver is removed; short-term (as defined by the state) nursing home, adult foster care, or group home placement for vulnerable adults (including elder abuse victims) for whom no other safe, short-term residence is available; crime scene cleanup; and window and lock replacement or repair.

Emergency replacement of prescription medicine and eyeglasses or other health care items are allowed when the state's compensation program, individual's health insurance plan, Medicaid or other health care funding source cannot provide for these expenses within 48 hours of the crime. Immediate health and safety services also include emergency legal assistance such as filing restraining or protective orders, obtaining emergency custody orders, and obtaining visitation rights. In addition, legal assistance that helps victims assert their rights in a criminal case, including pro bono legal clinics for crime victims is allowable. Not allowable are non-emergency legal expenses such as divorce proceedings, child custody proceedings, or civil action to obtain restitution.

2. Personal Advocacy and Case Management. These services include working with a victim to assess the impact of the crime; identify needs; develop a plan of services; identify resources; and provide information, referrals, advocacy, and follow-up contact for continued services, as needed. The purpose of these services is to assist victims of crime in understanding the dynamics of victimization and in stabilizing their lives after a victimization. These services are particularly required when multiple organizations are involved in serving a victim and family. For example, an advocate working with survivors of a homicide victim may assist the family in notifying other family members, counsel the family on interacting with the media, link them with a peer support organization, obtain crisis mental health assistance, connect them with criminal justice officials, and intercede for them with creditors, service providers, and employers. Another example would be a child advocate in a child advocacy center who works with a family while serving as liaison with law enforcement, prosecution, and child protective services; makes referrals and assists in applying for crime victim compensation; and helps the family in accessing child development services and mental health treatment.

3. Mental Health Counseling and Care. Mental health counseling and care must be provided by a person who meets state standards to provide these services.

4. Peer Support. Activities that provide opportunities for victims to meet others with similar crime victim experiences that provide self-help, information, and peer and social support in order to assist victims in receiving understanding and comfort and in adapting their lives after a crime.

5. Assistance in Criminal Justice Proceedings. Services and costs that help victims participate in the criminal justice system include advocacy on behalf of crime victims; accompaniment to criminal justice offices and court; transportation, meals, and lodging to allow victims who are not witnesses to participate in the criminal justice system; interpreters for victims who are deaf or hard of hearings or with limited English proficiency when they are not witnesses; child care and respite care to enable a victim who is a caregiver to attend criminal justice activities related to the case; notification to victims regarding trial dates, case disposition, incarceration, and parole hearings; assistance with victim impact statements; and assistance in recovering property that was retained as evidence. State grantees may also fund projects devoted to restitution advocacy on behalf of crime victims. (See section IX.D.4. for unallowable criminal justice costs)

6. Forensic Medical Evidence Collection Examinations. Forensic examinations are allowable costs for adult and child victims to the extent that other funding sources such as state appropriations are insufficient. These costs may be covered, if (1) the examination meets standards established by the state; and (2) appropriate crisis counseling and/or other types of victim services are offered to the victim in conjunction with the examination.

7. Forensic Interviews. Forensic interviews are the responsibility of the criminal justice system and VOCA victim assistance funds cannot be used to supplant other state and local public funding including criminal justice funding. VOCA funding may only be used for forensic interviews of children and vulnerable adults when (1) results of the interview will be used not only for law enforcement and prosecution purposes but also for social services, personal advocacy, case management, and mental health purposes; (2) interviews are conducted in the context of a multidisciplinary investigation and diagnostic team or in a specialized setting such as a child advocacy center, (3) the interviewer is trained to conduct forensic interviews appropriate to the developmental age and abilities of children or the developmental, cognitive, and physical or communication disabilities presented by adults, and (4) the subgrantee is not a prosecution or law enforcement organization.

Forensic interviews for adults with disabilities who do not come under the definition of vulnerable adult are also the responsibility of the criminal justice system. However, if the state VOCA administrator believes that persons with disabilities will have diminished access to the criminal justice system without the expertise of professionals with the knowledge and skill to work with persons who present with developmental, cognitive, physical or communication disabilities, the VOCA administrator may authorize use of VOCA victim assistance funds to assure that the expertise is available to assist the victim in a forensic interview.

8. Victim-Offender Meetings. State grantees may fund activities involving victim-offender meetings between the victim and the offender who perpetrated the crime against the victim. In allowing funds for these activities, at a minimum, grantees must consider (a) the safety and security of the victim; (b) the benefit or therapeutic value to the victim; (c) the procedures for ensuring that participation of the victim and offender are voluntary and that everyone understands the nature of any meeting or other activity, (d) the provision of appropriate support and accompaniment for the victim, (e) appropriate debriefing opportunities for the victim after a meeting, (f) the credentials of the facilitators, and (g) the opportunity for a crime victim to withdraw from the process at any time. The state grantee must assure that the project allows no contact with the victim or victim's family verbally or in writing that could be construed as soliciting, recommending, or encouraging participation in these activities. VOCA assistance funds cannot be used for victim-offender meetings that serve to replace criminal justice proceedings and offender based restorative justice programs. For face to face meetings with offenders, VOCA victim assistance funds may only be used for the proportionate cost of activities that are related to the victim's involvement.

9. Transportation. Transportation for victims to receive services or participate in criminal justice proceedings.

10. Public Presentations. VOCA funds may be used to support public awareness and education presentations that are made in schools, community centers, and other public forums, and that are designed to identify crime victims and provide or refer them to needed services. Costs related to these activities include presentation materials, brochures, newspaper notices, and public service announcements.

B. Allowable Subgrantee Support Costs. Costs which support the provision of quality, appropriate, and comprehensive services to crime victims, are allowable. These include:

1. Personnel Costs.

a. Direct Services Staff. These costs are directly related to providing direct services and include staff salaries, fringe benefits, malpractice insurance and the cost of advertising to recruit VOCA-funded personnel and volunteers.

b. Supervision of Direct Service Providers. State grantees may provide VOCA funds for supervision of direct service providers in a VOCA funded project.

2. Multisystem, Interagency, Multidisciplinary Response to Crime Victims. VOCA funds may be used for activities that support the development and functioning of coordinated and comprehensive responses to crime victims by direct service providers with allied professionals and the criminal justice system. Direct service examples are serving on child abuse and vulnerable adult multidisciplinary investigation and treatment teams, and coordinating with federal agencies to provide services to victims of federal crimes.

Allowable costs that further coordination and collaboration by a subgrantee may include participation by direct service providers, directors, administrators and board members on statewide or other task forces, work groups, and committees to develop protocols, interagency and other working agreements, and to oversee and make changes that improve state and community responses to crime victims. These activities do not include lobbying and administrative advocacy which is unallowable. These activities also do not allow for funding statewide coordinators for victim notification systems, crisis response teams, and other such coordinators who do not provide direct services.

3. Contracts for Professional Services. Subgrantees may only use VOCA funds to contract for specialized professional services that are not available within the organization. Examples of such services include psychological or psychiatric consultation; legal consultation for victim advocates who assist victims in using appropriate legal avenues to alleviate danger and in exercising their rights; and interpreters for victims who are deaf or hard of hearing or with limited English proficiency. Subgrantees are prohibited from using a majority of VOCA funds for contracted services which contain administrative, overhead, and other indirect costs in the hourly or daily rate.

4. Skills Training for Staff, Others Who Work With Crime Victims, and Administrators and Managers. VOCA funds designated for training must be used to develop the skills of paid staff and volunteers who are direct services providers. These funds may be used to train non-VOCA-funded service providers and criminal justice officials only when the training promotes a multisystem, interagency, and multidisciplinary response to crime victims. An example would be joint training of members of a child abuse multidisciplinary investigation and treatment team, which may include a child advocate, a child protective services worker, a law enforcement officer, a prosecutor and a pediatrician. VOCA funds may be used to pay for manuals, books, video conferencing, and other materials and training methods. At the discretion of the VOCA grantee, VOCA direct services funds may also be used for subgrantee training on program administration and management.

5. Training-Related Travel. VOCA funds can support costs such as travel, meals, lodging, and registration fees for VOCA and non-VOCA-funded direct service staff in a VOCA subgrantee organization. VOCA funds can support these expenses for other service providers and criminal justice officials only when the training promotes a multisystem, interagency, multidisciplinary response to crime victims. These expenses may be funded for training in-state, regionally, and nationally.

C. Subgrantee Administrative Costs. The following costs are necessary and essential to providing direct services and so the state grantee may allow use of VOCA victim assistance direct service funds for these purposes.

1. Office Costs. Office costs that are necessary and essential to providing direct services are allowable. These costs include the prorated costs of rent; telephones, computers, and other technologies; utilities; and local travel expenses for service providers. This also includes required minor building adaptations needed to meet standards of the Americans with Disabilities Act or the National Historic Preservation Act. An example would be the cost of building an access ramp that is necessary to provide services to persons with physical disabilities. (See the OJP Financial Manual for policy on “Procurement Under Awards of Federal Assistance” when considering allowing use of VOCA funds for minor building alterations.)

2. Equipment and Furniture. VOCA funds may be used to purchase furniture and equipment that facilitate the delivery of direct services to crime victims. Examples of allowable costs are telephones; Braille and TTY/TDD equipment; personal computers and printers; beepers; video cameras and recorders for documenting and reviewing interviews with children; two-way mirrors; colposcopes; and equipment and furniture for shelters, work spaces, victim waiting rooms, and children's play areas. Other allowable costs include furniture and equipment that help a subgrantee meet the requirements of the Americans with Disabilities Act.

VOCA funds can only support the prorated share of an item that is used exclusively for victim-related activities. In addition, subgrantees cannot use VOCA funds to purchase equipment for another organization or individual to perform a victim-related service.

3. Operating Costs. Examples of allowable operating costs include but are not limited to supplies; equipment use fees, when supported by usage logs; printing, photocopying, and postage; brochures that describe available services; books and other victim-related materials; computer backup files/tapes and storage; prorated costs of liability insurance on buildings; and security systems.

4. VOCA Administrative Time. VOCA funds may support administrative time to complete VOCA-required time and attendance sheets and programmatic documentation, reports, and statistics; administrative time to collect and maintain crime victims records; conduct victim satisfaction surveys and needs assessments used to improve victim services delivery in the VOCA funded project; and the prorated share of audit costs.

5. Leasing Vehicles. A subgrantee may use VOCA funds to lease vehicles if the subgrantee can demonstrate to the state grantee that such an expenditure is essential to delivering services to crime victims. The VOCA administrator must give prior approval for all such leases.

6. Automated Systems and Technology. A state grantee may award funds for automated systems and technology that support delivery of direct services to victims. Examples are automated information and referral systems, e-mail systems that allow communications among victim service providers, automated case tracking systems, and victim notification systems. Costs may include personnel, hardware, and other expenses as determined by the state grantee. When funding automated systems, state grantees must comply with the requirements of the OJP Financial Guide, effective edition.

a. Because automated systems are usually complex, expensive and require significant expertise in design, installation, and maintenance, the state grantee must assure that the applicant for funds meets the eligibility requirements of other subgrantees and must obtain from the applicant information on:

(1) How the technology will improve the delivery of direct services to crime victims,

(2) How the technology will be integrated into or will enhance the subgrantee's current operations,

(3) The cost of installation,

(4) The cost of training staff to use the technology,

(5) The ongoing operational costs, such as maintenance agreements, updating the system, and supplies. Property insurance is an allowable expense as long as VOCA funds support a prorated share of the cost of the insurance payments, and

(6) How ongoing operational costs will be supported.

b. If a state grantee uses VOCA victim assistance funds to support the startup cost of a victim notification system or to provide funding for ongoing operations of a victim notification system, the grantee must:

(1) Assure that the subgrantee has the capability of connecting a victim receiving notification to needed crisis intervention and referral services,

(2) Work with the state's single point of contact for OJP technology grants and comply with OJP requirements,

(3) Retain ownership of the technology.

7. Maintenance, Repair, or Replacement of Essential Items. VOCA funds may be used for maintenance, repair or replacement of items that contribute to maintaining a healthy or safe environment for crime victims, such as a furnace in a shelter or a security system for a sexual assault program. Routine maintenance, repair costs, and automobile insurance are allowable for vehicles. State grantees must review each subgrantee request to ensure that (a) other sources of funding are not available, and (b) the cost of maintenance, repair, or replacement is reasonable.

D. Nonallowable Subgrantee Costs and Activities. The following services, activities, and costs cannot be supported with VOCA victim assistance grant funds. This list is not exhaustive.

1. Lobbying and Administrative Advocacy. VOCA funds cannot support activities on legislation or administrative reform, whether conducted directly or indirectly.

2. Perpetrator Rehabilitation and Counseling. Subgrantees cannot use VOCA funds to offer rehabilitative services to perpetrators or offenders. Likewise, VOCA funds cannot support services to incarcerated individuals, even when the service pertains to the victimization of that individual.

3. Evaluations and Studies. VOCA direct services funds may not be used to pay for efforts conducted by individuals, organizations, task forces, or special commissions to study and/or research particular crime victim issues.

4. Criminal Justice System Activities. VOCA funds cannot be used to pay for activities that are directed at prosecuting an offender or improving the criminal justice system's effectiveness and efficiency. See sections IX.A.6&7. for exceptions on forensic interviews and examinations. Also, VOCA funds cannot be used for witness costs, including for victims when they serve as witnesses, since these are the responsibility of the criminal justice system.

5. Fundraising Activities. VOCA victim assistance funds cannot be used to pay for any activities or other costs related to fundraising.

6. Indirect Organizational Costs. The costs of capital improvements, property losses and expenses, real estate purchases, mortgage payments, and construction are not allowable. See section IX.C.1. for exceptions.

7. Individual Victim Losses. Reimbursing crime victims for expenses incurred as a result of a crime such as insurance deductibles, replacement of stolen property, funeral expenses, lost wages, and medical bills is not allowed. See section IX.A.1 for exceptions on allowable property loss expenses.

8. Medical Costs. VOCA funds cannot pay for nursing home care, home health care, inpatient treatment, hospital care, and other types of medical and/or dental treatment. See section X.A.1. for exceptions.

9. Relocation Expenses. Relocation expenses for crime victims are not allowable. These include moving expenses, security deposits on housing, ongoing rent, mortgage payments and utility startup. However, VOCA funds may be used to support personal advocacy and case management activities to locate resources to assist victims with these expenses.

10. Administrative Staff Expenses. Salaries, benefits, fees, furniture, equipment, technology, and other expenses of executive directors, board members, and other administrators are not allowable. Exceptions are for time spent providing direct services to crime victims, creating and maintaining victim records; staff recruitment and training, and completing VOCA-required time and attendance sheets, statistics, programmatic and financial reports, and victim satisfaction surveys and needs assessments.

11. Administrative Coordination Activities. VOCA funds cannot be used for the ongoing administration of criminal crisis response teams, automated victim notification systems, and other such programs when these activities do not provide direct services to crime victims.

12. Costs of Sending Individual Crime Victims to Conferences. VOCA victim assistance funds cannot be used to send individual crime victims to conferences.

13. Crime Prevention. VOCA victim assistance funds cannot be used for crime prevention activities.

X. Program Reporting Requirements

State grantees must adhere to all reporting requirements and time lines for submitting required reports as indicated below. Failure to do so may result in a hold being placed on the ability to drawdown the current year's funds, the attachment of special conditions, or the suspension or termination of the grant.

A. Subgrant Award Reports. The State grantee must submit a Subgrant Award Report on a form prescribed by OVC for each project that receives VOCA funds.

1. Reporting Deadline. State grantees must submit a Subgrant Award Report to OVC within 90 days of making the subaward.

2. Electronic Submission. State and territorial grantees must transmit their Subgrant Award Report information to OVC via the automated subgrant dial-in system.

3. Changes to Subgrant Award Report. If Subgrant Award Report information changes by the end of the grant period, state grantees must inform OVC of the changes by revising the information via the automated subgrant dial-in system. The total award amount of all Subgrant Award Reports, including the administrative costs and training funds submitted by the state grantee, must agree with the Final Financial Status Report (Standard Form 269A) submitted at the end of the grant period.

B. Performance Report. 1. Reporting Deadline. Each state grantee is required to submit information annually on the OVC-provided Performance Report, Form No. OJP 7390/4, by December 30 of each year for the previous fiscal year active grants.

2. Administration and Training. For those state grantees who opt to use a portion of the VOCA victims assistance grant for administrative and/or training costs, the grantee must describe how the funds were actually used and report the impact of the administrative and training funds on the state grantee's ability to expand, enhance, and improve services to crime victims. State grantees must maintain a clear audit trail of all costs supported by these funds.

C. Financial Requirements. 1. Special Condition. As a condition of receiving a grant, state grantees and subgrantees must agree to comply with the general and specific requirements of the OJP Financial Guide, effective edition, applicable OMB Circulars, and Common Rules. This includes maintenance of books and records in accordance with generally accepted government accounting principles. For copies of the OJP Financial Guide, effective edition, call or write the Office of Justice Programs, Office of the Comptroller, 810 7th Street, NW., Washington, DC 20531. Contact the Customer Service Center by telephoning 1-800-458-0786 or log on at http://www.ojp.usdoj.gov/FinGuide/.

2. Quarterly and Final Financial Status Reports (SF269A). Follow instructions provided in the OJP Financial Guide, effective edition

XI. Monitoring

A. State Grantee. State grantees are required to conduct regular desk monitoring and to conduct onsite monitoring in which all subgrantees are visited a minimum of once every four years. State grantees shall develop a monitoring plan and maintain a copy of site visit results and other documents related to compliance. At a minimum, state grantees are to review documents such as (1) the subgrantee policies and procedures that address specific requirements of VOCA and the OJP Financial Guide, effective edition, (2) victim service delivery performance data, (3) timekeeping and equipment records, and (4) documentation for costs supported by VOCA funds.

B. Office for Victims of Crime. OVC conducts onsite monitoring of grantees in accordance with its monitoring plan. While on the site, OVC personnel review various documents and files including (1) program manuals and procedures governing the VOCA grant program; (2) the Application Requirements, procedures, and guidelines for subawarding VOCA funds; (3) the monitoring protocol; (4) a sample of grant files; (5) other state grantee and subgrantee records and files, as appropriate; and (6) site visit findings and other documents related to compliance by subgrantee programs with VOCA requirements.

In addition, OVC may visit selected subgrantees and review documents such as (1) policies and procedures governing the organization and use VOCA funds; (2) programmatic records of victims' services; (3) timekeeping and equipment records and (4) other supporting documentation for costs supported by VOCA funds. Grantees are notified in writing of their compliance with VOCA requirements.

C. Other Federal Organizations. The Office of Justice Programs Office of the Comptroller, the General Accounting Office, and the Office of the Inspector General conduct periodic reviews of the financial policies, procedures, and records of VOCA grantees and subgrantees. On request, state grantees and subgrantees must give authorized representatives the right to access and examine all records, books, papers, case files, and documents related to the grant. Specific items identified as confidential and immune from government process must nevertheless be made available to any of the above organizations upon request.

XII. Suspension and Termination of Funding

If, after notice to the grantee, OVC finds that a state or any one of its subgrantees has failed to comply substantially with VOCA, the OJP Financial Guide, effective edition, the Final Program Guidelines, the Application Requirements to include assurances, certifications, and special conditions, or any implementing regulation or requirement, the OVC Director and the OJP OC may suspend or terminate funding to the state and/or take other appropriate action. Under the procedures of 28 CFR part 18 (7-1-96 edition), states may request a hearing on the record on the justification for the suspension and/or termination of VOCA funds in whole or in part to the state and take other appropriate action.

VOCA subgrantees may not request a federal hearing. However, VOCA subgrantees who believe that the state grantee has violated a program and/or a financial requirement is not precluded from bringing the alleged violation(s)to the attention of the Federal Cognizant Agency for that State.

Dated: August 22, 2002.
John W. Gillis,
Director, Office for Victims of Crime, Office for Justice Programs.

[FR Doc. 02-21830 Filed 8-30-02; 8:45 am]

BILLING CODE 4410-18-P